DEPARTMENT OF TRANSPORTATION [4910-22]

Federal Highway Administration

Environmental Impact Statement: Currituck and Dare Counties, North Carolina

AGENCY: Federal Highway Administration (FHWA), DOT.

ACTION: Notice of Intent (NOI).

SUMMARY: The FHWA is issuing this notice to advise the public that an Environmental Impact Statement (EIS) will be prepared for a proposed project in Currituck and Dare Counties, North Carolina.

FOR FURTHER INFORMATION CONTACT: Mr. George Hoops, P.E., Major Projects Engineer, Federal Highway Administration, 310 New Bern Avenue, Suite 410, Raleigh, North Carolina 27601-1418, Telephone: (919) 747-7022.

SUPPLEMENTARY INFORMATION: Pursuant to Title 23, Code of Federal Regulations, Part 771, Environmental Impact and Related Procedures, the FHWA, in cooperation with the North Carolina Turnpike Authority (NCTA) and the North Carolina Department of Transportation (NCDOT), will prepare an EIS addressing proposed improvements in the Currituck Sound area. The proposed study area includes U.S. 158 from NC 168 to NC 12 (including the Wright Memorial Bridge) and NC 12 north of its intersection with U.S. 158 to its terminus in Currituck County. The proposed action is included in NCDOT's 2007-2013 State Transportation Improvement Program (STIP), as well as NCDOT's Draft 2009-2015 STIP, and the Thoroughfare Plan for Currituck County.

On July 6, 1995, FHWA published a notice of intent to prepare an environmental impact statement (EIS) for a Mid-Currituck Sound Bridge project in Currituck County, North Carolina. The Mid-Currituck Sound Bridge project involved a proposal to build a bridge and approach roadways connecting U.S. 158 on the mainland to NC 12 on the Outer Banks. The FHWA, in cooperation with the North Carolina Department of Transportation (NCDOT), issued a Draft Environmental Impact Statement (DEIS) on the project in January 1998. FHWA and NCDOT held public hearings and provided a comment period on the DEIS. Since the 1998 DEIS, there have been several changes in the project. These changes led to the decision to rescind the 1995 notice of intent and the 1998 DEIS (Federal Register Vol. 73, No. 107, page 31733) and to issue this notice of intent.

Before releasing this notice of intent, FHWA and NCTA began coordinating with Federal and state environmental regulatory and resource agencies and the public in the development of the purpose and need for the proposed action and a conceptual range of alternatives in the project study area. The draft purpose and need for the proposed action includes the following elements: (i) Improving traffic flow on the project area's thoroughfares (NC 12 and U.S. 158), (ii) reducing travel time for persons traveling between Currituck County mainland and Currituck County Outer Banks, and (iii) reducing hurricane clearance times for residents and visitors who use NC 168 and U.S. 158 during a coastal evacuation.

The EIS for the proposed action will consider alternatives that include improving existing roadways (NC 12 and U.S. 158), as well as alternatives that involve building a new Mid-Currituck Sound bridge in combination with improving existing roads. The analysis will also include a range of non-highway improvement alternatives, including no-build, ferry service, expanding transit service, transportation demand management/shifting rental unit start times, and transportation systems management (TSM) alternatives. In addition, NCTA is considering a range of alternatives for the proposed bridge crossing, including (1) Two, three, or four-lane bridges; (2) various interchange configurations for the bridge's connections to the existing roadway network; and (3) a range of potential corridors for the bridge. As part of the EIS, NCTA will also study the feasibility and impacts of developing the proposed project as a tolled facility.

FHWA and NCTA will continue to provide the agencies, local governments, and the public with opportunities for involvement through informational workshops, project newsletters, informational mailings, and other means. Information on the dates, times, and locations of future citizens informational workshops will be posted on the NCTA Web site and will be advertised in the local news media, and newsletters will be mailed to those on the project mailing list. If you wish to be placed on the mailing list, contact Jennifer Harris at the address listed below or by submitting an e-mail to midcurrituck@ncturnpike.org. Once completed, the Draft EIS will be available for public and agency review and comment prior to the public hearing.

To ensure the full range of issues related to the proposed action are addressed and all significant issues identified, comments and suggestions are invited from all interested parties. Comments and questions concerning the proposed action should be directed to the FHWA at the address provided above or directed to: Ms. Jennifer Harris, P.E., Staff Engineer, North Carolina Turnpike Authority, 5400 Glenwood Avenue, Suite 400, Raleigh, North Carolina 27612, Telephone (919) 571-3000.

(Catalog of Federal Domestic Assistance Program Number 20.205, Highway Research, Planning and Construction. The regulations implementing Executive Order 12372 regarding intergovernmental consultation of Federal programs and activities apply to this program.)

Issued on: June 10, 2008.
George Hoops,
Major Projects Engineer, Federal Highway Administration, Raleigh, North Carolina.

[FR Doc. E8-13444 Filed 6-13-08; 8:45 am]

BILLING CODE 4910-22-P